DEPARTMENT OF ENERGY

Federal Energy Regulatory Commission

Combined Notice of Filings # 1

Take notice that the Commission received the following electric rate filings:

Docket Numbers: ER10-2124-003; ER10-2125-003; ER10-2127-003; ER10-2128-003; ER10-2129-003; ER10-2130-003; ER10-2131-004; ER10-2132-003; ER10-2133-004; ER10-2134-003; ER10-2135-003; ER10-2136-003; ER10-2137-004; ER10-2138-004; ER10-2139-004; ER10-2140-004; ER10-2141-004; ER10-2764-003; ER11-3872-004; ER11-4044-003; ER11-4046-003; ER12-161-003; ER12-164-002.

Applicants: Forward Energy LLC, Sheldon Energy LLC, Invenergy Cannon Falls LLC, Spindle Hill Energy LLC, Spring Canyon Energy LLC, Grays Harbor Energy LLC, Grand Ridge Energy LLC, Willow Creek Energy LLC, Hardee Power Partners Limited, Judith Gap Energy LLC, Invenergy TN LLC, Wolverine Creek Energy LLC, Grand Ridge Energy II LLC, Grand Ridge Energy III LLC, Grand Ridge Energy IV LLC, Grand Ridge Energy V LLC, Vantage Wind Energy LLC, Beech Ridge Energy LLC, Gratiot County Wind LLC, Stony Creek Energy LLC, Bishop Hill Energy III LLC, Gratiot County Wind II LLC, Bishop Hill Energy LLC.

Description: Notification of Change in Facts under Market-Based Rate Authority of Spring Canyon Energy LLC, et al.

Filed Date: 4/27/12.

Accession Number: 20120427-5409.

Comments Due: 5 p.m. ET 5/18/12.

Docket Numbers: ER10-3083-001; ER10-3082-001.

Applicants: Motiva Enterprises LLC, Shell Chemical LP.

Description: Motiva Enterprises LLC et al., Supplement to Updated Market Power Analysis for the Southeast Region.

Filed Date: 4/27/12.

Accession Number: 20120427-5209.

Comments Due: 5 p.m. ET 5/18/12.

Docket Numbers: ER12-1638-000.

Applicants: PJM Interconnection, LLC.

Description: Original Service Agreement No. 3278; Queue No. X2-083 to be effective 3/29/2012.

Filed Date: 4/27/12.

Accession Number: 20120427-5304.

Comments Due: 5 p.m. ET 5/18/12.

Docket Numbers: ER12-1639-000.

Applicants: Pacific Gas and Electric Company.

Description: Amendment to CDWR's Comprehensive Agreement, PG&E Rate Schedule FERC No. 77 to be effective 4/30/2012.

Filed Date: 4/27/12.

Accession Number: 20120427-5329.

Comments Due: 5 p.m. ET 5/18/12.

Docket Numbers: ER12-1641-000.

Applicants: Cleco Power LLC.

Description: NOTICE OF CANCELLATION—SA 90—LAGEN to be effective 4/30/2012.

Filed Date: 4/27/12.

Accession Number: 20120427-5345

Comments Due: 5 p.m. ET 5/18/12.

Take notice that the Commission received the following land acquisition reports:

Docket Numbers: LA12-1-000.

Applicants: Rockland Wind Farm LLC.

Description: Rockland Wind Farm LLC Quarterly Land Acquisition Report for 1st Quarter 2012.

Filed Date: 4/27/12.

Accession Number: 20120427-5360.

Comments Due: 5 p.m. ET 5/18/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 30, 2012.
Nathaniel J. Davis, Sr.,
Deputy Secretary.

[FR Doc. 2012-10977 Filed 5-7-12; 8:45 am]

BILLING CODE 6717-01-P